DEPARTMENT OF ENERGY

Federal Energy Regulatory Commission

[Docket No. RP04-360-000]

Maritimes & Northeast Pipeline, L.L.C.; Notice of Informal Settlement Conference

May 20, 2005.

Take notice that an informal settlement conference will be convened in this proceeding commencing at 10 a.m. (EST) on Thursday, May 26, 2005, at the offices of the Federal Energy Regulatory Commission, 888 First Street, NE., Washington, DC 20426, for the purpose of exploring the possible settlement of the above-referenced dockets.

Any party, as defined by 18 CFR 385.102(c), or any participant as defined by 18 CFR 385.102(b), is invited to attend. Persons wishing to become a party must move to intervene and receive intervenor status pursuant to the Commission's regulations (18 CFR 385.214).

Commission conferences are accessible under section 508 of the Rehabilitation Act of 1973. For accessibility accommodations, please send an e-mail to accessibility@ferc.gov or call toll-free 866-208-3372 (voice) or 202-208-1659 (TTY), or send a FAC to 202-208-2106 with the required accommodations.

For additional information, please contact Arnold H. Meltz at (202) 502-8649 or Moira B. Notargiacomo at (202) 502-8083.

Linda Mitry,
Deputy Secretary.

[FR Doc. E5-2666 Filed 5-25-05; 8:45 am]

BILLING CODE 6717-01-P